DEPARTMENT OF THE TREASURY

Submission for OMB Review; Comment Request

March 13, 2012.

The Department of the Treasury will submit the following information collection request to the Office of Management and Budget (OMB) for review and clearance in accordance with the Paperwork Reduction Act of 1995, Public Law 104-13, on or after the date of publication of this notice.

DATES: Comments should be received on or before April 16, 2012 to be assured of consideration.

ADDRESSES: Send comments regarding the burden estimate, or any other aspect of the information collection, including suggestions for reducing the burden, to the (1) Office of Information and Regulatory Affairs, Office of Management and Budget, Attention: Desk Officer for Treasury, New Executive Office Building, Room 10235, Washington, DC 20503, or email at OIRA_Submission@OMB.EOP.GOV and to the (2) Treasury PRA Clearance Officer, 1750 Pennsylvania Ave. NW., Suite 11020, Washington, DC 20220, or on-line at www.PRAComment.gov.

FOR FURTHER INFORMATION CONTACT: Copies of the submission(s) may be obtained by calling (202) 927-5331, email at PRA@treasury.gov, or the entire information collection request may be found at www.reginfo.gov.

Alcohol and Tabacco Tax and Trade Bureau (TTB)

OMB Number: 1513-0002.

Type of Review: Revision of a currently approved collection.

Title: Personnel Questionnaire—Alcohol and Tobacco Products.

Form: TTB F 5000.9.

Abstract: The information listed on TTB F 5000.9, Personnel Questionnaire—Alcohol and Tobacco Products, enables TTB to determine whether or not an applicant for an alcohol or tobacco permit meets the minimum qualifications. The form identifies the individual, residence, business background, financial sources for the business and criminal record.

Affected Public: Private Sector: Businesses or other for-profits.

Estimated Total Burden Hours: 9,950.

OMB Number: 1513-0026.

Type of Review: Extension without change of a currently approved collection.

Title: Claim for Drawback of Tax on Tobacco Products, Cigarette Papers, and Cigarette Tubes.

Form: TTB F 5620.7.

Abstract: TTB F 5620.7 documents taxpaid tobacco products, cigarette papers, and cigarette tubes that were exported to a foreign country, Puerto Rico, or Virgin Islands. This form is used by taxpayers to claim drawback for tax paid on exported products.

Affected Public: Private Sector: Businesses or other for-profits.

Estimated Total Burden Hours: 144.

OMB Number: 1513-0042.

Type of Review: Extension without change of a currently approved collection.

Title: Drawback on Distilled Spirits Exported.

Form: TTB F 5110.30.

Abstract: TTB F 5110.30 is used by persons who export distilled spirits and wish to claim a drawback of taxes already paid in the United States (U.S.). The form describes the claimant, spirits for tax purposes, amount of tax to be refunded, and a certification by the U.S. Government agent attesting to exportation.

Affected Public: Private Sector: Businesses or other for-profits.

Estimated Total Burden Hours: 10,000.

OMB Number: 1513-0112.

Type of Review: Extension without change of a currently approved collection.

Title: Special (occupational) Tax Registration and Return.

Form: TTB F 5630.5a, 5630.5d, 5630.5t.

Abstract: On August 10, 2005, President Bush signed into law the “Safe, Accountable, Flexible, Efficient Transportation Equity Act: A Legacy for Users,” Public Law 109-59. Section 11125 of that Act permanently repealed, effective July 1, 2008, the special (occupational) taxes on all taxpayers except for Tobacco Products Manufacturers (TPM), Cigarette Papers and Tubes Manufacturers (CPTM), and TP Export Warehouse Proprietors (TPEWP). TTB F 5630.5t is used for registration and tax payment for the TPM, CPTM, and TPEWP; TTB F 5630.5a is a tax return/registration for persons already in business who failed to register or pay on or before 6/30/2008; and TTB F 5630.5d is used to register Alcohol Dealers on and after 7/1/08.

Affected Public: Individuals and households; Private Sector: Businesses or other for-profits and not-for-profit institutions.

Estimated Total Burden Hours: 14,583.

Dawn D. Wolfgang,
Treasury PRA Clearance Officer.

[FR Doc. 2012-6396 Filed 3-15-12; 8:45 am]

BILLING CODE 4810-31-P